DEPARTMENT OF THE INTERIOR

Bureau of Land Management

[ID-930-1060-JJ-241E]

Notice of Public Meeting

AGENCY: Bureau of Land Management, Interior.

ACTION: Notice of public hearing.

SUMMARY: A public hearing is scheduled at the Bureau of Land Management State Office. A formal hearing will be conducted to receive statements from the public concerning the use of helicopters and motor vehicles in wild horse gather operations within Idaho for calendar year 2000.

DATE AND TIME: July 27, 2000, 6-8 p.m. Location at the B.L.M.’s Idaho State Office, Sagebrush/Ponderosa Room, 1387 South Vinnell Way, Boise, Idaho.

FOR FURTHER INFORMATION CONTACT: Mike Courtney, Rangeland Management Specialist, Salmon Field Office, Highway 93 South, Route 2, Box 610, Salmon, Idaho 83467, telephone (208) 756-5469, or Sam Mattise, Wild Horse and Burro Specialist, Boise Field Office, 3948 Development Avenue, Boise, Idaho 83705, telephone (208) 384-3356.

The meeting is open to the public and interested persons may make oral statement on the subject. All statements will be recorded.

Dated: June 27, 2000.
Kate Kitchell,
Lower Snake River District Manager.

[FR Doc. 00-17856 Filed 7-13-00; 8:45 am]

BILLING CODE 4310-66-P